DEPARTMENT OF THE INTERIOR

Bureau of Indian Affairs

[167 A2100DD/AAKC001030/A0A501010.999900]

Renewal of Agency Information Collection for Acquisition of Trust Land

AGENCY: Bureau of Indian Affairs, Interior.

ACTION: Notice of request for comments.

SUMMARY: In compliance with the Paperwork Reduction Act of 1995, the Bureau of Indian Affairs (BIA) is seeking comments on the renewal of Office of Management and Budget (OMB) approval for the collection of information for Acquisition of Trust Land authorized by OMB Control Number 1076-0100. This information collection expires August 31, 2016.

DATES: Submit comments on or before June 28, 2016.

ADDRESSES: You may submit comments on the information collection to Ms. Sharlene M. Round Face, Bureau of Indian Affairs, Division of Real Estate Services, MS-4639-MIB, 1849 C Street, NW., Washington, DC 20240; fax: (202) 219-1065; email: Sharlene.Roundface@bia.gov.

FOR FURTHER INFORMATION CONTACT: Ms. Sharlene M. Round Face, (202) 208-3615.

SUPPLEMENTARY INFORMATION:

I. Abstract

The BIA is seeking renewal of the approval for the information collection conducted under 25 CFR part 151, Land Acquisitions, for the United States to take land into trust for individual Indians and Indian Tribes. This information collection allows the BIA to review applications for compliance with regulatory and statutory requirements. No specific form is used. No third party notification or public disclosure burden is associated with this collection.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0100.

Title: Acquisition of Trust Land, 25 CFR 151.

Brief Description of Collection: Submission of this information allows Bureau of Indian Affairs (BIA) to review applications for the acquisition of land into trust status by the United Stated on behalf of individual Indians and Indian Tribes, pursuant to 25 CFR part 151. The information also allows the Secretary to comply with the National Environmental Policy Act and to determine if title to the subject property is marketable and unencumbered. No specific form is used, but respondents supply information and data in accordance with 25 CFR part 151, so that BIA may make an evaluation and determination on the application.

Type of Review: Extension without change of currently approved collection.

Respondents: Individual Indians and Indian Tribes seeking acquisition of land into trust status.

Number of Respondents: 326.

Number of Responses: 326.

Estimated Time per Response: Ranges from 60 to 110 hours.

Frequency of Response: Once per each tract of land to be acquired.

Estimated Total Annual Hour Burden: 34,670 hours.

Obligation to Respond: Response is required to obtain a benefit.

Estimated Total Hourly Cost Burden: $1,503,716.

Estimated Total Non-Hour Cost Burden: $0.

Elizabeth K. Appel,
Director, Office of Regulatory Affairs and Collaborative Action—Indian Affairs.

[FR Doc. 2016-10004 Filed 4-28-16; 8:45 am]

BILLING CODE 4337-15-P